DEPARTMENT OF THE INTERIOR

Bureau of Land Management

[AK-932-1430-FQ; AA-86850]

Notice of Proposed Withdrawal and Opportunity for Public Meeting; Alaska

AGENCY: Bureau of Land Management, Interior.

ACTION: Notice.

SUMMARY: The U.S. Department of Agriculture, Forest Service (U.S. Forest Service), has filed an application with the Bureau of Land Management (BLM) requesting the Secretary of the Interior to withdraw approximately 720 acres of land for the Spencer Glacier Recreation and Mineral Material Site, a part of the Chugach National Forest reservation in Alaska. This notice segregates the land from location and entry under the United States mining laws for 2 years, while various studies and analyses are made to support a final decision on the withdrawal application. The land will remain open to all other uses which can by law be made of National Forest lands, including disposition of materials under the Act of July 31, 1947, as amended.

DATES: Comments and requests for a public meeting must be received by May 29, 2007.

ADDRESSES: Comments and meeting requests should be sent to the Alaska State Director, BLM Alaska State Office, 222 West 7th Avenue, No. 13, Anchorage, Alaska 99513-7504, and to the Regional Forester, U.S. Department of Agriculture, Forest Service, Alaska Region, P.O. Box 21628, Juneau, Alaska 99802-1628.

FOR FURTHER INFORMATION CONTACT: Terrie D. Evarts, BLM Alaska State Office, (907) 271-5630.

SUPPLEMENTARY INFORMATION: The applicant for the above withdrawal is the U.S. Forest Service at the address stated above. Acting on behalf of and with the consent of the Secretary of Agriculture, the applicant requests the Secretary of the Interior, pursuant to section 204 of the Federal Land Policy and Management Act of 1976, 43 U.S.C. 1714, 43 CFR 2310.1-2(c)(3), to withdraw the following described National Forest System land for a period of 20 years from location and entry under the United States mining laws, subject to valid existing rights:

Seward Meridian

Chugach National Forest

T. 7 N., R. 2 E., unsurveyed.

Sec. 2, S½SE¼;

Sec. 11, N½, N½SW¼, SE¼SW¼, and N½SE¼;

Sec. 12, W½NW¼ and NW¼SW¼.

The area described contains approximately 720 acres.

The use of a right-of-way, an interagency agreement, or a cooperative agreement would not adequately constrain non-discretionary mining locations and related uses.

There are no suitable alternative sites with comparable developed access and suitable quantity and quality of gravel and quarry rock. The purpose of the proposed withdrawal will be to aid in making high quality rock and gravel available for community uses and is also identified for protection of access from the railroad for existing recreational amenities including glacier viewing, rafting, and the trail network development.

No additional water rights would be needed to fulfill the purpose of the requested withdrawal.

The case file, including applicable environmental documents, can be examined by interested persons in the BLM Alaska State Office, at the address stated above.

For a period of 90 days from the date of publication of this notice, all persons who wish to submit comments, suggestions, or objections in connection with the proposed withdrawal may present their views in writing to the Alaska State Director of the Bureau of Land Management at the address indicated above. Individual respondents may request confidentiality. Before including your address, phone number, e-mail address, or other personal identifying information in your comment, be advised that your entire comment—including your personal identifying information—may be made publicly available at any time. While you can ask us in your comment to withhold from public review your personal identifying information, we cannot guarantee that we will be able to do so. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal. All interested persons who desire a public meeting for the purpose of being heard on the proposed withdrawal must submit a written request to the BLM Alaska State Director within 90 days from the date of publication of this notice. Upon determination by the authorized officer that a public meeting will be held, a notice of the time and place will be published in the Federal Register and a newspaper in the vicinity of the above-described land, at least 30 days before the scheduled date of the meeting.

The application will be processed in accordance with the regulations set forth in 43 CFR 2300.

For a period of 2 years from February 27, 2007, the land will be segregated as specified above unless the application is denied or canceled or the withdrawal is approved prior to that date.

The temporary land uses which may be permitted during this segregative period are all public uses consistent with the processing of common variety minerals, access, and recreational utilization of the area.

(Authority: 43 CFR 2310.3-1(b))

Dated: January 23, 2007.

Carolyn J. Spoon,
Chief, Branch of Lands and Realty, Division of Resources, Lands, and Planning.

[FR Doc. E7-3365 Filed 2-26-07; 8:45 am]

BILLING CODE 4310-JA-P